FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than June 8, 2017.

A. Federal Reserve Bank of New York (Ivan Hurwitz, Vice President) 33 Liberty Street, New York, New York 10045-0001. Comments can also be sent electronically to Comments.applications@ny.frb.org:

1. Berkshire Hathaway Inc. and National Indemnity Company, both of Omaha, Nebraska; to acquire shares of American Express Company, New York, New York, and thereby acquire shares of American Express Centurion Bank, Salt Lake City, Utah.

B. Federal Reserve Bank of Kansas City (Dennis Denney, Assistant Vice President) 1 Memorial Drive, Kansas City, Missouri 64198-0001:

1. Kirk Enevoldsen and Jett Enevoldsen, both of Potter, Nebraska; each to retain voting shares of Enevoldsen Management Company, Potter, Nebraska, individually and as member of the Enevoldsen Family Group. The Enevoldsen Management Company, controls The Potter State Bank of Potter, Potter, Nebraska.

Board of Governors of the Federal Reserve System, May 17, 2017.
Yao-Chin Chao,
Assistant Secretary of the Board.

[FR Doc. 2017-10366 Filed 5-19-17; 8:45 am]

BILLING CODE 6210-01-P